DEPARTMENT OF COMMERCE

Foreign-Trade Zones Board

Order No. 1637

Expansion of Foreign-Trade Zone 8, Toledo, Ohio

Pursuant to its authority under the Foreign-Trade Zones (FTZ) Act of June 18, 1934, as amended (19 U.S.C. 81a-81u), the Foreign-Trade Zones Board (the Board) adopts the following Order:

Whereas, the Toledo-Lucas County Port Authority, grantee of Foreign-Trade Zone No. 8, submitted an application to the Board for authority to expand Site 1 at the Port of Toledo Complex, within the Toledo/Sandusky Customs and Border Protection port of entry (FTZ Docket 64-2008, filed 12/2/2008);

Whereas, notice inviting public comment was given in the Federal Register (73 FR 78289, 12/22/2008) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 8 - Site 1 is approved, subject to the Act and the Board's regulations, including Section 400.28.

Signed at Washington, DC, this 5th day of August 2009.

Ronald K. Lorentzen,
Acting Assistant Secretary of Commerce for Import Administration, Alternate Chairman, Foreign-Trade Zones Board.
Attest:
Andrew McGilvray,
Executive Secretary.

[FR Doc. E9-19673 Filed 8-14-09; 8:45 am]

BILLING CODE 3510-DS-S